DEPARTMENT OF THE INTERIOR

National Park Service

[NPS-WASO-NAGPRA-NPS0038221; PPWOCRADN0-PCU00RP14.R50000]

Notice of Intended Repatriation: U.S. Department of the Interior, Fish and Wildlife Service, Klamath Falls, OR

AGENCY: National Park Service, Interior.

ACTION: Notice.

SUMMARY: In accordance with the Native American Graves Protection and Repatriation Act (NAGPRA), the U.S. Department of the Interior, Fish and Wildlife Service (USFWS) intends to repatriate certain cultural items that meet the definition of unassociated funerary objects and that have a cultural affiliation with the Indian Tribes or Native Hawaiian organizations in this notice.

DATES: Repatriation of the cultural items in this notice may occur on or after August 12, 2024.

ADDRESSES: Spencer Lodge, USFWS, 1936 California Avenue, Klamath Falls, OR 97601, telephone (541) 885-8481, email spencer_lodge@fws.gov.

SUPPLEMENTARY INFORMATION: This notice is published as part of the National Park Service's administrative responsibilities under NAGPRA. The determinations in this notice are the sole responsibility of the USFWS, and additional information on the determinations in this notice, including the results of consultation, can be found in the summary or related records. The National Park Service is not responsible for the determinations in this notice.

Abstract of Information Available

A total of 1,949 cultural items have been requested for repatriation. The 1,949 unassociated funerary objects are projectile points, stone tools, bone objects, cordage fragments, basketry fragments, tule knots, stone flakes, shell, faunal remains, wood, coprolites, botanical remains, charcoal, ash, stick objects, groundstone, beads, glass fragment, and a fishing weight.

Objects described above were removed from Siskiyou County, CA by R.J. Squier and Gordon L. Grosscup during archaeological excavations occurring between 1952-1954. Excavations took place at two national wildlife refuges (NWR) operated by the USFWS, Tule Lake and Lowe Klamath NWR, where these objects were removed from four sites (CA-Sis-2, CA-Sis-108, CA-Sis-223, CA-Sis-239). These objects have been curated at the Phoebe A. Hearst Museum at the University of California Berkeley since their removal.

Determinations

The USFWS has determined that:

• The 1,949 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Klamath Tribes and Modoc Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 12, 2024. If competing requests for repatriation are received, the USFWS must determine the most appropriate requestor prior to repatriation. Requests for joint repatriation of the cultural items are considered a single request and not competing requests. The USFWS is responsible for sending a copy of this notice to the Indian Tribes and Native Hawaiian organizations identified in this notice and to any other consulting parties.

Authority: Native American Graves Protection and Repatriation Act, 25 U.S.C. 3004 and the implementing regulations, 43 CFR 10.9.

Dated: June 26, 2024.
Melanie O'Brien,
Manager, National NAGPRA Program.

[FR Doc. 2024-15199 Filed 7-10-24; 8:45 am]

BILLING CODE 4312-52-P